DEPARTMENT OF TRANSPORTATION

Coast Guard

33 CFR Part 165

[COTP San Juan 00-095]

RIN 2115-AA97

Safety Zone Regulations; Guayanilla Bay, Guayanilla, PR

AGENCY: Coast Guard, DOT.

ACTION: Final rule.

SUMMARY: The Coast Guard is establishing a moving and fixed safety zone around all vessels carrying Liquefied Natural Gas (LNG) as cargo in the waters of the Caribbean Sea in Guayanilla Bay, Puerto Rico. This precaution is required because of the size, draft and highly volatile cargo of LNG vessels. These regulations are necessary for the protection of life and property on the navigable waters of the United States.

DATES: This rule is effective April 27, 2001.

ADDRESSES: Comments and material received from the public, as well as documents indicated in this preamble as being available in the docket are part of docket [COTP San Juan 00-095] and are available for inspection or copying at Coast Guard Marine Safety Office San Juan, Rodriguez and Del Valle Building, San Martin Street, Carr. #2, Km. 4.9, Guaynabo, Puerto Rico, 00968, between the hours of 7 a.m. and 3:30 p.m., Monday through Friday, excluding Federal Holidays.

FOR FURTHER INFORMATION CONTACT: Lieutenant Commander Robert Lefevers at Coast Guard Marine Safety Office San Juan, Puerto Rico, (787) 706-2444.

SUPPLEMENTARY INFORMATION:

Regulatory Information

On October 24, 2000, we published a notice of proposed rulemaking (NPRM) entitled: Safety Zone Regulations; Guayanilla Bay, Guayanilla, Puerto Rico, in the Federal Register (65 FR 63558). We received no letters commenting on the proposed rule. No public hearing was requested and none was held.

Background and Purpose

These regulations are needed to provide for the safety of life on navigable waters from hazards associated with LNG carriers. The safety zones are needed because of the significant dangers LNG vessels present with their highly volatile cargoes, their size, and draft. We anticipate periodic arrivals and departures of LNG carriers at the Eco-Electricia waterfront facility in Guayanilla Bay.

This rule establishes a moving safety zone in a 100 yard radius surrounding a vessel carrying LNG product while transiting north of Latitude 17°56.0′N on approach to or departure from the Eco-Electrica waterfront facility in Guayanilla Bay, Puerto Rico. This moving safety zone remains in effect until the LNG vessel is alongside the Eco-Electrica waterfront facility in Guayanilla Bay, or south of Latitude 17°56.0′N. A fixed safety zone is established in the waters within 150 feet of a LNG vessel when the vessel is moored at the Eco-Electrica waterfront facility. This Safety Zone remains in effect while the LNG vessel is docked at the facility with product aboard or while the vessel is transferring liquefied natural gas.

Coast Guard Marine Safety Office San Juan will notify the maritime community of periods when the safety zone is in effect via a marine broadcast Notice to Mariners.

Discussion of Comments and Changes

No comments were received on the proposed rule.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979). We expect the economic impact of this rule to be so minimal that a full Regulatory Evaluation under paragraph 10(e) of the regulatory policies and procedures of DOT is unnecessary due to the relatively infrequent arrivals of LNG carriers and the limited commercial traffic in Guayanilla Bay.

Small Entities

Under the Regulatory Flexibility Act (5 U.S.C. 601-612), we considered whether this rule would have a significant economic impact on a substantial number of small entities. The term “Small entities” comprises small businesses, not-for-profit organizations that are independently owned and operated and are not dominant in their fields, and governmental jurisdictions with populations of less than 50,000.

The Coast Guard certifies under 5 U.S.C. 605(b) that this rule would not have a significant economic impact on a substantial number of small entities. The rule may affect the following entities, some of which may be small entities: the owners and operators of vessels intending to transit a portion of Guayanilla Bay while a LNG vessel transits and docks at the Eco-Electrica facility.

This rule will not have a significant economic impact on a substantial number of small entities because of the relatively infrequent LNG vessel arrivals into Guayanilla Bay and the short transit time into the Bay. Vessel traffic will not be impeded while a LNG carrier is moored to the dock at the Eco-Electrica facility because vessel traffic can safely pass around the safety zone. We will also issue marine information broadcasts to the public in advance of LNG vessel arrivals and departures in Guayanilla Bay.

Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please contact LCDR Robert Lefevers at (787) 706-2444 for assistance in understanding this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small businesses. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Environment

The Coast Guard has considered the environmental impact of this rule and has determined that, under figure 2-1, paragraph (34)g, of Commandant Instruction M16475.lC, that this rule is categorically excluded from further environmental documentation.

List of Subjects in 33 CFR Part 165

Harbors, Marine Safety, Navigation (water), Reporting and Recordkeeping requirements, Safety measures, Waterways.

For the reasons discussed in the Preamble, the Coast Guard amends 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, and 160.5; 49 CFR 1.46.

2. Section 165.755 is added to read as follows:

§ 165.755 Safety Zone; Guayanilla, Puerto Rico

(a) The following area is established as a safety zone during the specified conditions:

(1) A 100 yard radius surrounding a vessel carrying Liquefied Natural Gas (LNG) while transiting north of Latitude 17°56.0′N in the waters of the Caribbean Sea, on approach to or departure from the Eco-Electrica waterfront facility in Guayanilla Bay, Puerto Rico. The safety zone remains in effect until the LNG vessel is docked at the Eco-Electrica waterfront facility or south of Latitude 17°56.0′N.

(2) The waters within 150 feet of a LNG vessel when the vessel is alongside the Eco-Electrica waterfront facility in Guayanilla Bay, at position 17°58.55′N, 066°45.3′W. This safety zone remains in effect while the LNG vessel is docked with product aboard or is transferring liquefied natural gas.

(b) In accordance with the general regulations in 165.23 of this part, anchoring, mooring or transiting in these zones is prohibited unless authorized by the Coast Guard Captain of the Port.

(c) The Coast Guard Marine Safety Office San Juan will notify the maritime community of periods during which the safety zones will be in effect by providing advance notice of scheduled arrivals and departures of LNG vessels via a marine broadcast Notice to Mariners.

Dated: March 15, 2001.
J.A. Servidio,
Commander, U.S. Coast Guard, Captain of the Port.

[FR Doc. 01-7624 Filed 3-27-01; 8:45 am]

BILLING CODE 4910-15-P